DEPARTMENT OF TRANSPORTATION

Federal Aviation Administration

14 CFR Part 39

[Docket No. FAA-2009-1213; Directorate Identifier 2009-NM-097-AD]

RIN 2120-AA64

Airworthiness Directives; McDonnell Douglas Corporation Model DC-9-81 (MD-81), DC-9-82 (MD-82), DC-9-83 (MD-83), DC-9-87 (MD-87), and MD-88 Airplanes

AGENCY: Federal Aviation Administration (FAA), DOT.

ACTION: Notice of proposed rulemaking (NPRM).

SUMMARY: We propose to adopt a new airworthiness directive (AD) for certain McDonnell Douglas Corporation Model DC-9-81 (MD-81), DC-9-82 (MD-82), DC-9-83 (MD-83), DC-9-87 (MD-87), and MD-88 airplanes. This proposed AD would require repetitive inspections for cracking of the lower rear spar caps of the wings, and related investigative and corrective actions if necessary. This AD would also require repetitive inspections of certain repaired areas. This proposed AD results from reports of cracking of the wing rear spar lower cap at the outboard flap and inboard drive hinge at station Xrs=164.000; the cracking is due to material fatigue from normal flap operating loads. We are proposing this AD to detect and correct such fatigue cracking, which could result in fuel leaks, damage to the wing skin or other structure, and consequent reduced structural integrity of the wing.

DATES: We must receive comments on this proposed AD by March 25, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Roger Durbin, Aerospace Engineer, Airframe Branch, ANM-120L, FAA, Los Angeles Aircraft Certification Office, 3960 Paramount Boulevard, Lakewood, California 90712-4137; telephone (562) 627-5233; fax (562) 627-5210.

SUPPLEMENTARY INFORMATION:

Comments Invited

We invite you to send any written relevant data, views, or arguments about this proposed AD. Send your comments to an address listed under the ADDRESSES section. Include “Docket No. FAA-2009-1213; Directorate Identifier 2009-NM-097-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of an inspection for fuel leaks that revealed cracking of the wing rear spar lower cap at the outboard flap and inboard drive hinge at station Xrs=164.000. The manufacturer determined that the cracks are the result of material fatigue from normal flap operating loads. Inspecting this area for cracks will prevent crack migration and ensure repairs are done before further damage occurs. Such fatigue cracking, if not detected and corrected in a timely manner, could result in fuel leaks, damage to the wing skin or other structure, and consequent reduced structural integrity of the wing.

Relevant Service Information

We have reviewed Boeing Alert Service Bulletin MD80-57A242, dated May 8, 2009. For Group 1, Configuration 2, and Group 2 airplanes: The service bulletin describes procedures for repetitive eddy current testing high frequency (ETHF) inspections for cracking of the lower rear spar caps of the wings, and related investigative and corrective actions if necessary. The related investigative action is an ETHF inspection for cracking of the upper rear spar cap of the wings. The corrective actions include doing a temporary repair of the lower rear spar cap, doing a temporary repair of the upper and lower rear spar cap, and contacting Boeing for repair instructions and doing the repair. The service bulletin also describes procedures for repetitive ETHF inspections of any temporary repair, and corrective actions if necessary. The service bulletin specifies that no action is necessary for Group 1, Configuration 1, airplanes.

The recommended compliance time for the initial inspection of the lower rear spar caps of the wings is before the accumulation of 30,000 total flight cycles or within 3,360 flight cycles after the issue date on the service bulletin, whichever occurs later. The recommended repetitive inspection interval is 2,650 flight cycles for airplanes on which no cracking is found. The recommended compliance time for the initial inspection of a temporary repair area is 11,000 flight cycles after the repair is done. The service bulletin specifies that post-repair inspections be repeated at intervals not to exceed 7,000 flight cycles. The related investigative and corrective actions are done before further flight.

FAA's Determination and Requirements of This Proposed AD

We are proposing this AD because we evaluated all relevant information and determined the unsafe condition described previously is likely to exist or develop in other products of these same type designs. This proposed AD would require accomplishing the actions specified in the service information described previously, except as discussed under “Difference Between the Proposed AD and Service Bulletin.”

Difference Between the Proposed AD and Service Bulletin

The service bulletin specifies that you may contact the manufacturer for repair instructions if the crack length is longer than 2.0 inches or is located in the rear spar cap forward horizontal leg radius. In addition, the service bulletin does not provide corrective action if any crack is found (less than or greater than 2.0 inches) in a temporary repair during the repetitive inspections. This proposed AD would require you to repair those conditions in one of the following ways:

• Using a method that we approve; or

• Using data that meet the certification basis of the airplane that have been approved by the Boeing Commercial Airplanes Organization Designation Authorization (ODA) that has been authorized by the FAA to make those findings.

Costs of Compliance

We estimate that this proposed AD would affect 670 airplanes of U.S. registry. We also estimate that it would take about 4 work-hours per product to comply with this proposed AD. The average labor rate is $80 per work-hour. Based on these figures, we estimate the cost of this proposed AD to the U.S. operators to be $214,400, or $320 per product, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

McDonnell Douglas Corporation: Docket No. FAA-2009-1213; Directorate Identifier 2009-NM-097-AD.

Comments Due Date

(a) We must receive comments by March 25, 2010.

Affected ADs

(b) None.

Applicability

(c) This AD applies to McDonnell Douglas Corporation Model DC-9-81 (MD-81), DC-9-82 (MD-82), DC-9-83 (MD-83), DC-9-87 (MD-87), and MD-88 airplanes, certificated in any category; as identified in Boeing Alert Service Bulletin MD80-57A242, dated May 8, 2009.

Subject

(d) Air Transport Association (ATA) of America Code 57: Wings.

Unsafe Condition

(e) This AD results from reports of cracking of the wing rear spar lower cap at the outboard flap and inboard drive hinge at station Xrs=164.000; the cracking is due to material fatigue from normal flap operating loads. The Federal Aviation Administration is issuing this AD to detect and correct fatigue cracking, which could result in fuel leaks, damage to the wing skin or other structure, and consequent reduced structural integrity of the wing.

Compliance

(f) You are responsible for having the actions required by this AD performed within the compliance times specified, unless the actions have already been done.

Repetitive Inspections and Related Investigative and Corrective Actions

(g) At the applicable times specified in paragraph 1.E. of Boeing Alert Service Bulletin MD80-57A242, dated May 8, 2009, do the actions required by paragraphs (g)(1) and (g)(2) of this AD, except as required by paragraph (h) of this AD.

(1) Do initial and repetitive eddy current testing high frequency (ETHF) inspections for cracking of the lower rear spar caps of the wings, and do all applicable related investigative and corrective actions, by doing all the applicable actions specified in the Accomplishment Instructions of Boeing Alert Service Bulletin MD80-57A242, dated May 8, 2009, except as required by paragraph (i) of this AD.

(2) Do initial and repetitive ETHF inspections for cracking of any temporary repairs, and do all applicable related investigative and corrective actions, by doing all the applicable actions specified in the Accomplishment Instructions of Boeing Alert Service Bulletin MD80-57A242, dated May 8, 2009, except as required by paragraph (j) of this AD.

Exceptions to Service Bulletin Specifications

(h) Where Boeing Alert Service Bulletin MD80-57A242, dated May 8, 2009, specifies a compliance time after the date of the service bulletin, this AD requires compliance within the specified compliance time after the effective date of this AD.

(i) If any crack is found during any inspection required by this AD and Boeing Alert Service Bulletin MD80-57A242, dated May 8, 2009, specifies contacting Boeing for repair: Before further flight, repair the crack using a method approved in accordance with the procedures specified in paragraph (k) of this AD.

(j) If any crack is found during any inspection of a temporary repair, before further flight, repair using a method approved in accordance with the procedures specified in paragraph (k) of this AD.

Alternative Methods of Compliance (AMOCs)

(k)(1) The Manager, Los Angeles Aircraft Certification Office (ACO), FAA, has the authority to approve AMOCs for this AD, if requested using the procedures found in 14 CFR 39.19. Send information to ATTN: Roger Durbin, Aerospace Engineer, Airframe Branch, ANM-120L, FAA, Los Angeles Aircraft Certification Office, 3960 Paramount Boulevard, Lakewood, California 90712-4137; telephone (562) 627-5233; fax (562) 627-5210.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by the Boeing Commercial Airplanes Organization Designation Authorization (ODA) that has been authorized by the Manager, Los Angeles ACO, to make those findings. For a repair method to be approved, the repair must meet the certification basis of the airplane.

Issued in Renton, Washington, on January 28, 2010.
Ali Bahrami,
Manager, Transport Airplane Directorate, Aircraft Certification Service.

[FR Doc. 2010-2688 Filed 2-5-10; 8:45 am]

BILLING CODE 4910-13-P